DEPARTMENT OF HOMELAND SECURITY

Bureau of Customs and Border Protection

[Docket No. USCBP-2006-0037]

Announcement of Program Pilot: International Traveler (IRT) Registered

AGENCY: Customs and Border Protection; Department of Homeland Security.

ACTION: General notice; request for comments.

SUMMARY: This notice announces a pilot international registered traveler program, referred to as International Registered Traveler (IRT) that will be operated by Customs and Border Protection (CBP) to allow for the expedited clearance of pre-approved low-risk air travelers into the United States. This pilot will initially be conducted at the John F. Kennedy International Airport, Jamaica, New York; the George Bush Intercontinental Airport, Houston, Texas; and the Washington Dulles International Airport, Sterling, Virginia, and may expand to other locations as announced. This notice invites public comments concerning any aspect of the pilot of this international registered traveler program, informs interested members of the public of the eligibility requirements for voluntary participation in the pilot, and describes the basis on which CBP will select participants for the pilot.

DATES: Applications to be initial participants in the pilot should be submitted May 12, 2008. The pilot will commence June 10, 2008. Applications to participate in the pilot will be accepted throughout the duration of the pilot. The pilot is expected to continue for at least six months. The time frame of the pilot will vary, depending on the progress of an evaluation of the pilot that will be conducted by CBP.

ADDRESSES: You may submit comments, identified by “USCBP-2006-0037,” by one of the following methods:

• Federal eRulemaking Portal: http://www.regulations.gov. Follow the instructions for submitting comments.

• Mail: Border Security Regulations Branch, Regulations and Rulings, Office of International Trade, Customs and Border Protection, 1300 Pennsylvania Avenue, NW. (Mint Annex), Washington, DC 20229.

Instructions: All submissions received must include the agency name, document title, and docket number (USCBP-2006-0037) for this notice. All comments received will be posted without change to http://www.regulations.gov, including any personal information provided. Docket: For access to the docket to read background documents or comments received go to http://www.regulations.gov. Submitted comments may also be inspected during regular business days between the hours of 9 a.m. and 4:30 p.m. at the Office of Regulations and Rulings, Office of International Trade, U.S. Customs and Border Protection, 799 9th Street, NW., 5th Floor, Washington, DC. Arrangements to inspect submitted comments should be made in advance by calling Mr. Joseph Clark at (202) 572-8768.

Applications for the IRT pilot are available through the Global On-Line Enrollment System (GOES) at www.cbp.gov. Applications must be completed and submitted electronically.

FOR FURTHER INFORMATION CONTACT: Fiorella Michelucci, Office of Field Operations, (202) 344-2564 (not a toll-free number).

SUPPLEMENTARY INFORMATION:

Background

Customs and Border Protection (CBP) is announcing in this notice that it will be conducting an international registered traveler pilot for a new passenger processing system called International Registered Traveler (IRT). CBP will be evaluating the IRT program during this pilot with the ultimate goal to implement a single, integrated passenger processing system that will expedite the movement of low-risk, frequent international air travelers by providing an expedited inspection process for pre-approved, pre-screened “trusted” travelers. By implementing this initiative, CBP would facilitate the movement of people more efficiently, thereby accomplishing CBP's strategic goal of facilitating legitimate trade and travel while securing the homeland.

The Commissioner of CBP is delegated authority in 19 CFR 101.9 to conduct voluntary test/pilot programs to evaluate the effectiveness of new technology or operational procedures regarding the processing of passengers, vessels or merchandise. Title 8 U.S.C., Section 1365b requires that the Department of Homeland Security (DHS) operate a biometric entry and exit system and that it integrate registered traveler programs into this system. This provision also requires, in subsection (k)(3), that the Secretary establish an international registered traveler program that incorporates available technologies, such as biometrics and e-passports, and security threat assessments to expedite the screening and processing of international travelers, including United States Citizens and lawful permanent residents who enter and exit the United States.¹ Subsection (k)(3)(B) authorizes the Secretary to impose a fee for the program and to modify such fee “from time to time.” The provision requires that the fee may not exceed the aggregate costs associated with the program and shall be credited to DHS to carry out the program.

¹ CBP has other programs that expedite the travel of previously screened and known travelers across the borders of the United States (i.e., Free and Secure Trade (FAST), Secure Electronic Network for Travelers Rapid Inspection (SENTRI), and NEXUS). The agency also calls these programs “trusted traveler programs.”

DHS is coordinating multiple tests of electronic identity verification systems, including the US-VISIT program and the Registered Traveler program of the Transportation Security Administration (TSA). The results of these various programs will be considered in coordination with those other components and agencies within DHS.

I. Description of IRT Pilot Program

Overview

The IRT pilot project will allow pilot participants expedited entry into the United States at any of its three locations, John F. Kennedy International Airport, Jamaica, New York (JFK); the George Bush Intercontinental Airport, Houston, Texas (IAH); and the Washington Dulles International Airport, Sterling, Virginia (IAD), and a limited number of future airports as announced in further Federal Register notices, by using automated kiosks located in the Federal Inspection Services (FIS) area of each airport. IRT uses fingerprint biometrics technology to verify a participant's identity and confirm his or her status as a participant.

After arriving at the FIS area, the participant will proceed directly to the IRT kiosk. A sticker affixed to the participant's passport at the time of acceptance in IRT will provide visual identification that the individual can be referred to the kiosk. IRT participants need not wait in the regular passport control primary inspection lines.

Operations

After arriving at the kiosk, the participant will activate the system by inserting into the document reader either a machine-readable passport or a machine-readable U.S. permanent resident card. On-screen instructions will guide the participant to provide fingerprints electronically. These fingerprints will be compared with the fingerprint biometrics on file to validate identity and confirm that the individual is a member of the program. Participants will also be prompted to look at the camera for a digital photograph.

When the procedures at the kiosk have been successfully completed, which will also involve responding to several customs declaration questions by use of a touch-screen, the participant will be issued a transaction receipt. This receipt must be provided along with the passport or permanent resident card to the CBP Officer at the exit control area who will examine and inspect these documents. CBP Officers stationed in booths next to the kiosk lanes will also oversee activities at the kiosk.

Declarations

When using the IRT kiosks, IRT participants will be required to declare all articles being brought into the U.S. pursuant to 19 CFR 148.11.

If IRT participants declare any of the following, the kiosk will redirect the user to the head of the line at the nearest open passport control, primary inspection station:

(a) Commercial merchandise or commercial samples, or items that exceed the applicable personal exemption amount;

(b) More than $10,000 in currency or other monetary instruments (checks, money orders, etc.), or foreign equivalent in any form; or

(c) Restricted/prohibited goods, such as agricultural products, firearms, mace, pepper spray, endangered animals, birds, narcotics, fireworks, Cuban goods, and plants.

Moreover, IRT participants may be subject to further examination and inspection as determined by CBP Officers at any time during the arrival process.

II. Pilot Program Eligibility Criteria

Participation in the IRT pilot is voluntary. Only U.S. citizens, U.S. nationals, and U.S. lawful permanent residents (LPRs) will be considered for participation at the launch of this pilot. CBP is working with other countries to eventually recognize comparable programs operated by these countries so that non-U.S. citizens and other foreign nationals that are participants in those programs will be eligible for participation in IRT. As these agreements on mutual recognition are finalized, CBP will expand its eligibility criteria, and will announce any expansions of these criteria during the pilot program by publication in the Federal Register.

No person, however, will be eligible for this pilot if he or she loses LPR status or is inadmissible to the United States under the immigration laws, if he or she has ever been convicted of a criminal offense, or if he or she has ever been found in violation of the customs or immigration laws of the United States, or of any criminal law. Additionally, no person will be eligible if CBP or DHS determines that he or she presents a potential risk for terrorism, criminality or smuggling, or if CBP or DHS can not sufficiently determine that an applicant meets the above criteria for participation in the pilot.

Children 14 years of age and older, but under the age of 18, must have the consent of a parent or legal guardian to participate in the pilot. Children under the age of 14 are not eligible to participate in the pilot.

All participants must possess a Machine Readable Passport or Permanent Resident Card (if applicable). Machine-readable passports include two optical-character, typeface lines at the bottom of the biographic page of the passport that help to quickly read the biographical information on the passport.

III. Pilot Program Application and Selection Process

The application for the IRT pilot is available on-line through the Global On-Line Enrollment System (GOES) at www.cbp.gov. The application is to be completed and submitted electronically through GOES. Other application options, such as paper applications or the opportunity to provide enrollment data via private sector entities will be considered in future announcements.

The on-line application for IRT collects information similar to that collected by applications for CBP's other trusted traveler programs (e.g., NEXUS, Secure Electronic Network for Travelers Rapid Inspection (SENTRI) and Free and Secure Trade (FAST)). The information collected through the on-line application is deposited into the Global Enrollment System (GES), as the system of record for CBP trusted traveler programs. The personal information provided by the applicants, including the fingerprint biometrics taken at the time of the personal interview, may be shared with other government and law enforcement agencies in accordance with applicable laws and regulations. The personal information that is collected through GOES is maintained in a Privacy Act system of records (GES) that was last published in the Federal Register on April 21, 2006 (71 FR 20708). CBP has also published two Privacy Impact Assessments that cover this pilot on the DHS Privacy Office Web site, www.dhs.gov/privacy [GES, GOES]. In addition, an update addressing on-line functionality of the enrollment process was posted to the DHS Privacy Office Web site on November 1, 2006. Applicant biometrics (fingerprints, photographs) are stored in the DHS Automated Biometric Identification System (IDENT). The IDENT Privacy Act System of Records notice was last published on June 5, 2007 (72 FR 31080).

A non-refundable fee in the amount of $100 will be charged to each applicant at the time of application submission to the pilot program. The $100 fee paid by applicants to the pilot will cover the benefits of participation for the duration of the pilot. The fee is to be paid to CBP at the time of application through the Federal Government's on-line payment system, Pay.gov. Pay.gov is a system by which parties can make secure electronic payments to many Federal Government agencies. Should the IRT program become permanent, other payment alternatives may be made available.

There are three steps to the application process before an individual can become a participant in the pilot program. In the first step, applicants must complete and submit the pilot program application on-line through GOES and submit payment of the $100 fee through Pay.gov. Applicants will be provided with a GOES on-line account in order to assist them and permit CBP to communicate with the applicant during the application process. In the second step, CBP Officers will review the applicant's information for processing to ensure that the applicant is in compliance with United States customs and immigration laws and regulations. Criminal and antiterrorism government databases will also be checked. Foreign government databases and sources may also be used as permitted by relevant U.S. laws and regulations, and to the extent applicable, arrangements with foreign governments.

Applicants meeting the eligibility criteria will be notified by e-mail to an e-mail address provided at the time of the application and a message in their GOES account that they can schedule an interview at an Enrollment Center using the GOES link to the on-line scheduling feature. The applicant will choose an Enrollment Center at JFK, Houston or Dulles Airport to initiate the third phase of the application process. As operation of the program expands, CBP will announce future enrollment locations. Contact information for the three current Enrollment Centers (also available at www.cbp.gov), is as follows:

John F. Kennedy International Airport: U.S. Customs and Border Protection, JFK International Airport, Terminal 4, Second Floor, Jamaica, NY 11430, Telephone: (718) 553-1237, Fax: (718) 553-1783.

George Bush Intercontinental Airport: U.S. Customs and Border Protection, Houston Intercontinental Airport, 3870 North Terminal Road, Terminal E, Houston, TX 77032, Telephone: (281) 230-4672, Fax: (281) 230-4676.

Washington Dulles International Airport: U.S. Customs and Border Protection, Deferred Inspection Unit/Enrollment Center, Washington Dulles International Airport, 22685 Holiday Park Drive, Suite 15, Sterling, VA 20166, Telephone: (703) 661-7100, Fax: (703) 661-8394.

At the Enrollment Center, CBP officers will review the provided information and conduct an interview of the applicant. Applicants must bring to the interview originals of the identification documentation they specified in their application to the Enrollment Center. Usually, this will be a United States Passport or Permanent Resident card. During this process, CBP officers will perform the following procedures: verify identity and proof of U.S. citizenship, U.S. national or U.S. permanent resident status, as applicable; confirm the validity of travel documents; confirm the candidate meets eligibility requirements for membership; electronically capture a full set of 10 fingerprints to enroll the applicant; and conduct various checks, including a check for criminal records in law enforcement databases (which involves submission of the fingerprints to the Federal Bureau of Investigation (FBI)). Finally, CBP officers will also take a digital photograph of each applicant for the IRT membership database. Although an application can be made for a child (14 years of age or older) to travel with a non-custodial adult, provided that the required documentation is submitted, a child appearing at the Enrollment Center for processing must be accompanied by at least one custodial adult (parent or guardian). At the interview, the CBP officer may request appropriate documentary evidence of parental custody from the parent or guardian seeking to enroll the child in the IRT pilot.

After becoming a member of IRT, each participant will be screened against the relevant criminal and anti-terrorism government databases each time the IRT kiosk is used. Additionally, it is important to note that CBP will continue to conduct periodic checks for all enrolled members during the entire period of the pilot (and/or the permanent version of the program, at the point it becomes permanent), to ensure that CBP can quickly take action should new information be made available that would disqualify the participant.

The required immigration status and citizenship of participants must be valid at all times. Participants must possess required immigration and identity documents at all times during their travel, including at the time of arrival to participating airports.

IV. The Fee

In order to reimburse CBP for the application processing costs associated with this program, including the submission of applicant fingerprints to the FBI, Congress has, as noted, authorized the Secretary (of the Department of Homeland Security) to charge a fee for participation in the program. See 8 U.S.C. 1365b(k)(3)(B). On receipt of the fee, CBP will review the application and determine whether the applicant is eligible to participate in this voluntary program. Applicants who are enrolled as IRT participants will receive the benefit of expedited clearance through airports at which CBP is testing, or later establishes the IRT program.

1. Alternatives to Charging a Fee

The only alternative to charging a fee to cover CBP's application processing costs associated with the IRT program would be for the United States Government, and specifically CBP, to pay for the costs out of its general appropriated funds, without reimbursement. However, this course of action would be contrary to stated Congressional and Administration policy that a fee should be charged when a specific benefit is rendered. 31 U.S.C. 9701; Office of Management and Budget (OMB) Circular A-25, User Charges (Revised), section 6, 58 FR 38142 (July 15, 1993). Therefore, CBP has determined that charging a fee for the subject service is the only viable alternative.

2. Amount of the Fee

CBP has determined that $100 is the amount necessary to recover the costs incurred by CBP for the processing of the application, including the submission of the applicant's fingerprints to the FBI, and other administrative costs of the program.

However, the program costs covered by this fee do not include inspection costs incurred by CBP each time an IRT participant enters the United States. Such costs are covered by the various inspection user fees already charged by CBP. See 8 U.S.C. 1356(d); 19 U.S.C. 58c(a)(5)(B).

The application processing costs covered by the fee are provided as follows:

Unit Cost of Processing an Application for IRT (5 Year Cycle)
Unit Cost FBI Fingerprints | $17.25
Unit Cost of Vetting An Applicant | 38.04
Unit Cost of Issuing Sticker | 1.00
Unit Cost of Establishing, Operating, and Maintaining An Enrollment Center | 32.53
Unit Cost of GES Servers, Storage, Enhancements and Upgrades | 11.14
Grand Total Unit Cost of Processing An IRT Application | 99.96
Notes for Table:
1. Position costs for application processing is calculated by multiplying .5 by the hourly rate of a Customs and Border Protection Officer (CBPO), (Total position cost = $144,000, including training, equipment and other costs). A 3.16% pay raise and benefits weighted average rate was applied.
2. A 3% inflation rate adjustment was applied for all costs.
3. GES is the acronym for CBP's Global Enrollment System. Application for the IRT pilot program will occur in the Global On-Line Enrollment System (GOES), which is part of GES. The GES is housed in the CBP Secure network.
Other Assumptions:
CBPOs working on the enrollment centers will perform other functions when no application processing-related work exists.
Unit cost is based on regular hours. Overtime is excluded.
Total enrollees = 250,000 (This total would be reached in a five-year cycle).

As can be seen in the above table, the total calculated costs to CBP, per applicant, equals the amount of $99.96. To simplify accounting tasks for both applicants and CBP, and to allow for the possibility of small variations in the estimated costs compared to the actual costs, CBP is setting the cost per applicant at $100. This fee will be non-refundable.

V. Redress

If an applicant is denied participation in the IRT pilot, a notice will be sent to his or her GOES account advising him or her of the denial, with instructions on how to proceed if the applicant wishes to seek additional information.

Even though an applicant has been accepted in the pilot program, he or she may later be suspended or removed from the pilot if CBP, at its sole discretion, determines that a participant has engaged in any misconduct under the IRT pilot; if the participant provided false information during the application and/or application process; if the participant fails to follow the terms and conditions of this notice and/or the requirements of the pilot; if the participant is convicted of a crime or otherwise no longer meets the qualification standards of the program; or if CBP determines that such action is necessary and appropriate. CBP will notify the participant of his or her suspension or removal from the pilot in writing, which will be effective immediately.

The applicant has three channels for redress: (a) Directly with the enrollment center; (b) DHS Travelers Redress Inquiry Program (DHS TRIP); and c) the CBP Trusted Traveler Ombudsman.

(a) Enrollment Center

A participant may contest his or her suspension or removal, in writing, to the Enrollment Center where the participant's interview was conducted. The enrollment center addresses are available at www.cbp.gov and are provided in this document. The participant's letter must be received by CBP within thirty (30) calendar days of the date provided as the date of suspension or removal. The applicant should write on the envelope “Redress Request RE: IRT.” The letter should address the facts or conduct that resulted in the suspension or removal and why the participant believes the reason for the suspension or removal is invalid.

(b) DHS TRIP

The individual may choose to initiate the redress process through the existing DHS TRIP process. DHS TRIP is a Web-based customer service initiative developed as a voluntary program to provide a one-stop mechanism for individuals to request redress. DHS TRIP provides traveler redress intake and processing support while working with relevant DHS components to review and respond to requests for redress.

An individual seeking redress may obtain the necessary forms and information to initiate the process on the DHS TRIP Web site at http://www.dhs.gov/trip or by contacting DHS TRIP by mail. DHS TRIP will review all the documentation provided by the individual and share the redress request with any necessary agencies (including appropriate Federal law enforcement or intelligence agencies, if necessary) for resolution. DHS TRIP will correct any erroneous information and will inform the individual when the redress process has been completed.

(c) Ombudsman

If participants feel the denial or revocation was based upon inaccurate information, they may contact the CBP Enrollment Center where their interview was conducted, or they may write to the CBP Trusted Traveler Ombudsman at: U.S. Customs and Border Protection, 300 Interstate Corporate Center, Suite 303, Williston, VT 05495, Attention: CBP Ombudsman.

Contact with the Enrollment Centers, DHS TRIP or the Trusted Traveler Ombudsman should contain supporting information that can demonstrate that the denial or revocation was based on inaccurate information. CBP often relies on data from other agencies (e.g., Immigration and Customs Enforcement, FBI, Drug Enforcement Administration) and the denial or revocation may have been based upon those records. In order to view records that may be on file with another agency, the applicant will need to contact those agencies directly. The provisions allowing participants to seek redress concerning their suspension or removal from the program pilot do not create or confer any legal right, privilege or benefit, but is wholly discretionary on the part of CBP.

None of these three options for redress will result in either the confirmation or denial of whether an individual is on the watch list, because this information is derived from classified and sensitive law enforcement and intelligence information. This policy protects the operational counterterrorism and intelligence collection objectives of the Federal Government, as well as the personal safety of those involved in counterterrorism investigations.

VI. FOIA

Any participant who has reason to believe his or her suspension or removal is based upon records maintained by CBP and wishes to view those records, should file a Freedom of Information Act (FOIA) request with the FOIA Division, Office of International Trade, U.S. Customs and Border Protection, 1300 Pennsylvania Avenue, NW. (Mint Annex), Washington, DC 20229. Applicants should not use this address to seek redress or review of their application for this pilot. This address should only be used to obtain copies of the information CBP has on file, subject to applicable FOIA exemptions. If the record sought is owned by another State or local entity, the applicant must contact that entity directly for information.

VII. Pilot Evaluation Criteria

CBP will review all public comments received concerning any aspect of the pilot program or procedures, finalize procedures in light of those comments and CBP will evaluate the program by forming problem-solving teams and establishing baseline measures and evaluation methods and criteria. Evaluation of the pilot will begin upon the start of the pilot. The pilot is expected to continue for a minimum of six months. A review will be conducted at the end of a three-month period and at the six-month period, to include evaluation of the following: The number of participants; the number of instances and length of time that kiosks were out of service; the average length of time for a person to successfully complete the kiosk process; the number of instances that approved user could not successfully complete the kiosk process; the average length of time for CBP to process applications; the percentage of denied applications; and the percentage of kiosk usage. This time frame is subject to change, however, depending on the progress of the ongoing evaluation. The pilot program may be extended, modified, or terminated depending on the results of the evaluation.

Dated: April 7, 2008.
W. Ralph Basham,
Commissioner, Customs and Border Protection.

[FR Doc. E8-7643 Filed 4-10-08; 8:45 am]

BILLING CODE 9111-14-P